DEPARTMENT OF THE INTERIOR

National Park Service

[NPS-WASO-NAGPRA-NPS0040117; PPWOCRADN0-PCU00RP14.R50000]

Notice of Inventory Completion: Cincinnati Museum Center, Cincinnati, OH

AGENCY: National Park Service, Interior.

ACTION: Notice.

SUMMARY: In accordance with the Native American Graves Protection and Repatriation Act (NAGPRA), the Cincinnati Museum Center has completed an inventory of human remains and associated funerary objects and has determined that there is a cultural affiliation between the human remains and associated funerary objects and Indian Tribes or Native Hawaiian organizations in this notice.

DATES: Repatriation of the human remains and associated funerary objects in this notice may occur on or after June 13, 2025.

ADDRESSES: Tyler Swinney, Cincinnati Museum Center, 1301 Western Avenue, Cincinnati, OH 45203, telephone (513) 287-7000 Ext. 7287, email tswinney@cincymuseum.org.

SUPPLEMENTARY INFORMATION: This notice is published as part of the National Park Service's administrative responsibilities under NAGPRA. The determinations in this notice are the sole responsibility of the Cincinnati Museum Center, and additional information on the determinations in this notice, including the results of consultation, can be found in its inventory or related records. The National Park Service is not responsible for the determinations in this notice.

Abstract of Information Available

Human remains representing, at least, 107 individuals have been identified. The 1,148 lots of associated funerary objects are three circular incised marine shell gorgets, (Fairfield Style), a circular un-incised marine shell gorget, a crescent-shaped marine shell gorget, rectangular gorgets (marine shell, slate and animal bone), a young canid burial, an elbow-shaped limestone smoking pipe, a cut and polished wolf mandible segment, a muscovite mica mirror, a marine shell bead, a small copper pin, an unmodified concretion, cut/modified box turtle carapaces, drilled black bear and elk teeth, complete and partial domestic tools (flint, ground stone, and animal bone), animal bone ornaments and beads, muscovite mica fragments, freshwater mussel shells, terrestrial gastropods, carbonized botanical material, soil samples, thermally altered and unmodified stone, sandstone and rock abraders, grit and limestone tempered ceramics, burned and unburned animal bone, flint debitage, daub, copper-stained stone and animal bone, and intrusive historic material. These human remains and cultural objects originated from the Glenn/Oberting Mounds (12D24-25) in Dearborn County, Indiana, and the Hawkins Ridge Mounds (33Ha11[182] & 33Ha583) and Newtown Firehouse site (33Ha419) in Hamilton County, Ohio. The Cincinnati Museum Center has no records indicating that these human remains or cultural objects were exposed to any hazardous substances while in the stewardship of the Museum.

During the early 1980s, Richard Scamyhorn conducted several amateur excavations at the Glenn/Oberting Mounds. The Scamyhorn collection was donated to the Museum in 2013.

In late 1989, the Cincinnati Museum of Natural History conducted emergency salvage excavations (Acc. 1990.11) at the Hawkins Ridge Mounds before the site was destroyed by residential development. Collections that were surface collected from Hawkins Ridge Mounds in 1976 and 1977 by Eric Matchette were donated to the Museum in 1992 (Acc. 1992.75).

In 1980/1981, the Miami Purchase Association for Historic Preservation, mitigated a series of inadvertent discoveries at the Newtown Firehouse site; these collections were transferred to the Museum in 1990 (Acc. 1990.58). Emergency salvage excavations were also conducted at the Newtown Firehouse site by the Cincinnati Museum Center in 2006 (Acc. 2006.196) prior to urban development and in 2015 (Acc. 2015.71) following an inadvertent discovery during the installation of fiber-optics and telecommunication utilities.

Cultural Affiliation

Based on the information available and the results of consultation, cultural affiliation is clearly identified by the information available about the human remains and associated funerary objects described in this notice.

Determinations

The Cincinnati Museum Center has determined that:

• The human remains described in this notice represent the physical remains of 107 individuals of Native American ancestry.

• The 1,148 lots of objects described in this notice are reasonably believed to have been placed intentionally with or near individual human remains at the time of death or later as part of the death rite or ceremony.

• There is a connection between the human remains and associated funerary objects described in this notice and the Absentee Shawnee Tribe of Indians of Oklahoma; Eastern Shawnee Tribe of Oklahoma; Miami Tribe of Oklahoma; Ottawa Tribe of Oklahoma; Peoria Tribe of Indians of Oklahoma; Shawnee Tribe; The Osage Nation; and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 13, 2025. If competing requests for repatriation are received, the Cincinnati Museum Center must determine the most appropriate requestor prior to repatriation. Requests for joint repatriation of the human remains and associated funerary objects are considered a single request and not competing requests. The Cincinnati Museum Center is responsible for sending a copy of this notice to the Indian Tribes and Native Hawaiian organizations identified in this notice.

Authority: Native American Graves Protection and Repatriation Act, 25 U.S.C. 3003, and the implementing regulations, 43 CFR 10.10.

Dated: April 30, 2025.
Melanie O'Brien,
Manager, National NAGPRA Program.

[FR Doc. 2025-08471 Filed 5-13-25; 8:45 am]

BILLING CODE 4312-52-P